DEPARTMENT OF COMMERCE

National Oceanic and Atmospheric Administration

50 CFR Part 648

[Docket No.: 171213999-8128-01]

RIN 0648-XF898

Fisheries of the Northeastern United States; Atlantic Herring Fishery; Adjustments to 2018 Management Area Annual Catch Limits; Correction

AGENCY: National Marine Fisheries Service (NMFS), National Oceanic and Atmospheric Administration (NOAA), Department of Commerce.

ACTION: Temporary final rule; adjustment to annual catch limits; correction.

SUMMARY: The final rule adjusting the 2018 management area annual catch limits for the herring fishery published in the Federal Register on February 15, 2018. That rule contained several errors and this document corrects those errors. This action is necessary to ensure that correct 2018 herring fishery annual catch limits are available to the public.

DATES: Effective June 20, 2018, through December 31, 2018.

ADDRESSES: Copies of supporting documents, including the 2013-2015 Specifications/Framework Adjustment 2 and the 2016-2018 Specifications to the Atlantic Herring Fishery Management Plan (FMP), are available from the Sustainable Fisheries Division, Greater Atlantic Regional Fisheries Office, 55 Great Republic Drive, Gloucester, MA 01930, telephone (978) 281-9315, or online at: https://www.nefmc.org/library/framework-2-2 or http://www.greateratlantic.fisheries.noaa.gov/sustainable/species/atlherring/index.html.

FOR FURTHER INFORMATION CONTACT: Alyson Pitts, Fishery Management Specialist, 978-281-9352.

SUPPLEMENTARY INFORMATION:

Need for Correction

A final rule adjusting the 2018 annual catch limits (ACL) in the Atlantic herring fishery was effective upon publication in the Federal Register (83 FR 6797) on February 15, 2018. However, the adjusted 2018 ACLs using the preliminary 2016 adjusted ACLs did not take into account the new 2016-2018 specifications that were published in the Federal Register (81 FR 75731) on November 1, 2016, and effective on December 1, 2016. Additionally, the adjusted 2018 ACLs did not account for the reallocation of a portion of the management uncertainty buffer between the acceptable biological catch and the stockwide ACL due to lower than expected harvest (less than 4,000 mt) in the New Brunswick weir fishery. This document corrects the 2018 ACLs for the Atlantic herring management areas. The adjustments result in a slightly higher ACL for Area 1A, no change for Area 2, and a slight reduction in Areas 1B, 3, and stockwide.

Correction

Accordingly, in the rule NMFS published on February 15, 2018 (83 FR 6797), on page 6798, Table 2 is corrected to read as follows:

Table 2—Herring Sub-ACLs, Catch, and Carryover
[mt]
| Corrected adjusted 2016 sub-ACLs * | 2016 catch | 2016 underages/overages | Carryover ** (up to 10 percent) | 2018 sub-ACLs (minus research set-aside) | Corrected adjusted 2018 sub-ACLs (resulting change)
Area 1A | 30,524 | 27,831 | 2,693 | 2,693 | 29,391 | 32,084 (+122).
Area 1B | 2,844 | 3,657 | −813 | NA | 4,365 | 3,552 (−97).
Area 2 | 31,227 | 13,463 | 17,764 | 2,910 | 28,227 | 31,137 (N/A).
Area 3 | 42,765 | 18,631 | 24,134 | 4,090 | 39,673 | 43,763 (−90).
Stockwide | 101,135 | 63,581 | NA | NA | 101,656 | 100,843 (−126). ***
* Includes the reallocation of the management uncertainty buffer (1,000 mt) to Area 1A sub-ACL and Stockwide ACL due to lower than expected catch in the New Brunswick weir fishery.
** Maximum carryover is based on up to 10 percent of the 2016 sub-ACLs: Area 1A = 30,300 mt; Area 1B = 4,500 mt; Area 2 = 29,100 mt; and Area 3 = 40,900 mt.
*** The stockwide ACL cannot be increased by carryover. The 2018 adjusted stockwide ACL is decreased by the Area 1B overage.

Classification

The NMFS Assistant Administrator has determined that this final rule is consistent with the FMP, other provisions of the MSA, and other applicable law. Pursuant to 5 U.S.C. 553(b)(3)(B), there is good cause to waive prior notice and an opportunity for public comment on this action because it would be contrary to the public interest. Allowing for prior notice and public comment on this adjustment is also impracticable because regulations require notification of catch allocations and adjustments as close as possible to the start of the herring fishing year on January 1, 2018. This is a correction to the Adjustments to 2018 Management Area Annual Catch Limits in the Atlantic Herring Fishery final rule that was published in the Federal Register on February 15, 2018. We recently identified the correct information to adjust 2016 sub-ACL determinations. To provide accurate information for harvesting, it is in the best interest of the fleet and the herring resource to correct the adjusted 2018 sub-ACLs as soon as possible. In addition, the change helps fulfill regulatory requirements, is formulaic, and involves no exercise of discretion or policymaking. Putting the corrected adjusted sub-ACLs in place as soon as possible provides the earliest opportunity for the fleet to adjust their business plans to facilitate their full harvest of available catch in the open areas. For the same reasons, pursuant to 5 U.S.C. 553(d), NMFS finds good cause for this correction to be effective on the date of publication.

This final rule is exempt from review under Executive Order 12866.

This final rule does not contain a collection-of-information requirement for purposes of the Paperwork Reduction Act.

Because prior notice and opportunity for public comment are not required for this rule by 5 U.S.C. 553, or any other law, the analytical requirements of the Regulatory Flexibility Act, 5 U.S.C. 601 et seq., are inapplicable.

Authority: 16 U.S.C. 1801 et seq.

Dated: June 15, 2018.
Samuel D. Rauch III,
Deputy Assistant Administrator for Regulatory Programs, National Marine Fisheries Service.

[FR Doc. 2018-13250 Filed 6-19-18; 8:45 am]

BILLING CODE 3510-22-P